DEPARTMENT OF THE INTERIOR

National Park Service

[NPS-WASO-NRNHL-22559; PPWOCRADI0, PCU00RP14.R50000]

National Register of Historic Places; Notification of Pending Nominations and Related Actions

AGENCY: National Park Service, Interior.

ACTION: Notice.

SUMMARY: The National Park Service is soliciting comments on the significance of properties nominated before December 3, 2016, for listing or related actions in the National Register of Historic Places.

DATES: Comments should be submitted by January 11, 2017.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before December 3, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ARIZONA

Maricopa County

Executive Towers, 207 W. Clarendon, Phoenix, SG100000455

CALIFORNIA

Los Angeles County

La Laguna de San Gabriel, (Latinos in 20th Century California (AD) MPS), 300 W. Wells St., San Gabriel, MP100000462

Orange County

Egan, Richard, House, 31829 Camino Capistrano, San Juan Capistrano, SG100000460

Riverside County

Oasis Commercial Building, (Architecture of E. Stewart Williams MPS MPS), 101 S. Palm Canyon Dr., Palm Springs, MP100000459

San Diego County

Wiipuk uun'yaw Trail, Address Restricted, Mount Laguna vicinity, SG100000463

Santa Barbara County

Rattlesnake Canyon Bridge, (Highway Bridges of California MPS MPS), 1819 Las Canoas Rd., Santa Barbara, MP100000465

Santa Clara County

Arc Jet Complex, 980 Mark Ave., NASA Ames Research Center, Moffett Field, SG100000466

Ames Administration Building, Bush Cir., NASA Ames Research Center, Moffett Field, SG100000467

Flight and Guidance Simulation Laboratory, 655 Cooper Ln., NASA Ames Research Center, Moffett Field, SG100000469

NASA Ames Wind Tunnel Historic District, NASA Ames Research Center, Moffett Field, SG100000470

COLORADO

Bent County

Fort Lyon National Cemetery, 15700 Cty. Rd. HH, Las Animas vicinity, SG100000472

Denver County

Denver Press Club, 1330 Glenarm Pl., Denver, SG100000473

Jackson County

Colorado State Forest Building Complex, Near CO 14, Gould vicinity, SG100000474

DISTRICT OF COLUMBIA

District of Columbia

Apartments at 5922 13th Street NW., (Apartment Buildings in Washington, DC, MPS MPS), 5922 13th St. NW., Washington, MP100000471

Observatory Hill, 23rd & E Sts. NW., Washington, SG100000479

Fifteenth Street Financial Historic District, Fifteenth St. from Pennsylvania Ave. to K, 14th & G Sts. NW., Washington, BC100000540

HAWAII

Honolulu County

Barry, Mr. & Mrs. David Jr., House, 3625 Diamond Head Rd., Honolulu, SG100000481

Bushnell House, 3210 Melemele Pl., Honolulu, SG100000483

IOWA

Black Hawk County

Hotel President, 500 Sycamore St., Waterloo, SG100000484

Buena Vista County, Storm Lake High School, 310 Cayuga St., Storm Lake, SG100000485

Linn County

Iowa State Highway Commission, District 6 Building, 430 16th Ave. SW., Cedar Rapids, SG100000486

Madison County

Bricker—Price Block, 105-115 S. Chestnut Ave., Earlham, SG100000487

Polk County

Mack—International Motor Truck Corporation Building, 121 12th St., Des Moines, SG100000488

Walnut Tire and Battery Co.—Globe Publishing Company Building, 1417-1425 Walnut St., Des Moines, SG100000489

Washington and Elizabeth Miller Tract—Center—Soll Community Historic District, Roughly 35th to 38th Sts. between 3500-3607 Grand Ave. to Center St., Des Moines, SG100000490

Sac County

Park Hotel, 115 NW. State St., Sac City, SG100000491

Scott County

Priester Building, The, 601 Brady St., Davenport, SG100000493

Hamburg Historic District, (Davenport MRA MPS), Roughly bounded by W. 5th, 6th, 7th, 8th & 9th Sts., Davenport, BC100000541

KANSAS

Allen County

Lander's Wagon and Carriage Shop, 403 Bridge St., Humboldt, SG100000494

Cherokee County

Kansas Route 66 Historic District—North Baxter Springs, (Route 66 in Kansas MPS MPS), SE. Beasley Rd., Baxter Springs, BC100000495

Crawford County

Leonard, J.T an Anna, House, 211 N. Summit St., Girard, SG100000505

Dickinson County

Engle, Jacob S., House, 102 Highland Dr., Abilene, SG100000506

Hoffman and Lamb Buildings, 102-104 S. Factory St., Enterprise, SG100000510

Franklin County

Reid, Lyman, House, 306 Elm St., Ottawa, SG100000508

Geary County

Grand Army of the Republic (GAR) Memorial Arch, 500 N. Washington St., Junction City, SG100000512

Johnson County

Olathe Cemetery, 738 Chestnut St., Olathe, SG100000514

Osage County

Arvonia Township Hall, 0000 W. 9th St., Lebo, SG100000516

LOUISIANA

Lafourche Parish

S.S. HALO (shipwreck and remains), (World War II Shipwrecks along the East Coast and Gulf of Mexico MPS MPS), Address Restricted, Port Fourchon vicinity, MP100000520

MAINE

Aroostook County

Freeman Barn, 1533 Aroostook Rd., Wallagrass, SG100000522

Kennebec County

Water Street, 71- 286 Water & 1 Winthrop Sts., Augusta, SG100000524

Sagadahoc County

Wallace—Haskell Homestead, 268 W. Point Rd., Phippsburg, SG100000526

MARYLAND

Baltimore Independent city

Remington Historic District, Roughly bounded by W. 22nd & Sisson Sts., Wyman Park Dr., Mace Alley, Baltimore (Independent city), SG100000530

MASSACHUSETTS

Middlesex County

Stone's Bridge, Old Stonebridge Rd. across Sudbury R., Wayland, SG100000527

MICHIGAN

Jackson County

Ford Motor Company Brooklyn Plant, 221 Mill St., Brooklyn, SG100000532

Leelanau County

Omena Historic District, Generally from jct. of Tatch Rd. & MI 22 through jct. with N. Omena Point Rd. & E. side of MI 22, Omena, SG10000053

MISSISSIPPI

Amite County

Sherman Line Rosenwald School, 3021 Sherman Church Rd., Magnolia vicinity, SG100000535

Bolivar County

Shaw Consolidated School, 214 Dean Blvd., Shaw, SG100000536

Hinds County

Clinton Olde Towne Historic District, Bounded by Belmont, East, College & Capitol/West Sts., Clinton, SG100000537

Warren County

Jackson Street Missionary Baptist Church, (Vicksburg MPS MPS), 1416 Jackson St., Vicksburg, MP100000538

MONTANA

Carter County

Medicine Rocks State Park, 1141 MT 7, Ekalaka vicinity, SG100000539

NEVADA

White Pine County

Bahsahwahbee, Address Restricted, Major's Place vicinity, SG100000464

NEW HAMPSHIRE

Carroll County

Fore Point, (Squam MPS MPS), Address Restricted, Sandwich, MP100000475

Strafford County

Forest Glade Cemetery, 163 Maple St., Somersworth, SG100000476

Sullivan County

Richards, Dexter, & Sons Woolen Mill, 169 Sunapee St., Newport, SG100000468

NEW YORK

Chemung County

Washington, George, School, 430 W. Washington Ave., Elmira, SG100000480

Columbia County

Ancram Hamlet Historic District, Cty Rte. 7, NY Rte 82, Cty Rte 8, Ancram, SG100000477

Monroe County

Terminal Building, 65 W. Broad St., Rochester, SG100000482

New York County

United States Appraisers Store, 201 Varick St., New York, SG100000496

Onondaga County

Syracuse Lighting Company, 311 Genant Dr., Syracuse, SG100000497

Saratoga County

Calvary Episcopal Church, 85 Lake Hill Rd., Burnt Hills, SG100000498

OREGON

Multnomah County

Alco Apartments, 100-11—NE Martin Luther King Blvd., Portland, SG100000499

PENNSYLVANIA

Adams County

Middlekauff, Jacob and Juliana, House, 530 Flohrs Church Rd., Franklin Township, SG100000500

Bucks County

Strassburger, Reuben and Elizabeth, Farmstead, 407 Kestone Dr., Sellersville, SG100000501

Philadelphia County

Mill-Rae, 13475 Proctor Rd, Philadelphia, SG100000502

PUERTO RICO

Catano Municipality, Sanctuary of Blessed Martin de Porres, Comercio St./Oeste Cementerio St., Catano vicinity, SG100000503

TEXAS

Tarrant County

Clayton, Lily B., Elementary School, 2000 Park Place Ave., Fort Worth, SG100000504

Willacy County

Willacy County Courthouse, 547 W. Hidalgo Ave., Raymondville, SG100000507

UTAH

Cache County

Smithfield Tabernacle—Youth Center, 25 N. Main St., Smithfield, SG100000509

Millard County

Callister, Thomas Clark and Millie, House, 155 S 100 E, Fillmore, SG100000511

Weber County

Wilbur, J.M., Company Blacksmith Shop, 2145 N 5500 E, Eden, SG100000513

VERMONT

Bennington County

White, H.C., Company Mill Complex, 940 Water St., North Bennington, SG100000515

WISCONSIN

Dunn County

Downsville Lodge No. 1961 I.O.O.F., E4541 Cty Rd. C, Dunn, SG100000517

Manitowoc County

ALASKA Shipwreck (Scow Schooner), (Great Lakes Shipwreck Sites of Wisconsin MPS MPS), 4.2 mi. NE of Two Rivers, in Lake Michigan, Two Rivers vicinity, MP100000518

Vilas County

Peacock Inn, 8780 WI 70, St. Germain, SG100000519

Waukesha County

Genesee Woolen Mill Site, W308 S4484 and W308 S4473 WI 83, Genesee, SG100000521

Nashotah House Theological Seminary, 2777 Mission Rd., Delafield, SG100000523

WYOMING

Sublette County

Lander Road-New Fork River Crossing, 1371 Paradise Rd., 23-136 (West Side of New Fork River), Boulder vicinity, SG100000525

A request for removal has been made for the following resource(s):

KANSAS

Rice County

Beckett, Charles K., House, 210 W. Main, Sterling, OT08001350

Sumner County

Spring Creek School, 4 mi. N of US 81, approximately 4 mi. NE of Caldwell, Corbin vicinity, OT97000410

UTAH

Salt Lake County

Hotel Albert, (Salt Lake City Business District MRA MPS), 121 SW Temple St., Salt Lake City, OT82004142

A request to move has been received for the following resource(s):

DISTRICT OF COLUMBIA

District of Columbia

Lockkeeper's House, C & O Canal Extension, SW corner of 17th St. and Constitution Ave. NW., Washington, MV73000218

Please note the numbering system has changed in our new database.

Authority: 60.13 of 36 CFR part 60.

Dated: December 8, 2016.
Barbara Wyatt,
Acting Chief, National Register of Historic Places/National Historic Landmarks Program.

[FR Doc. 2016-30680 Filed 12-23-16; 8:45 am]

BILLING CODE 4312-52-P